DEPARTMENT OF ENERGY

Environmental Management Site-Specific Advisory Board, Paducah

AGENCY: Office of Environmental Management, Department of Energy.

ACTION: Notice of cancellation of open meeting.

SUMMARY: On August 13, 2025, the Department of Energy published a notice of open meeting announcing a meeting on September 18, 2025, of the Environmental Management Site-Specific Advisory Board, Paducah. This notice announces the cancellation of this meeting.

DATES: The meeting scheduled for September 18, 2025, announced in the August 13, 2025, issue of the Federal Register (FR Doc. 2025-15314, 90 FR 38966), is cancelled.

FOR FURTHER INFORMATION CONTACT: Zachary Boyarski at by Phone: (270) 441-6812 or Email: Zachary.Boyarski@pppo.gov.

Signing Authority

This document of the Department of Energy was signed on September 15, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on September 15, 2025.
Jennifer Hartzell,
Alternate Federal Register Liaison Officer, U.S. Department of Energy.

[FR Doc. 2025-18024 Filed 9-17-25; 8:45 am]

BILLING CODE 6450-01-P